DEPARTMENT OF AGRICULTURE

Forest Service

36 CFR Part 242

DEPARTMENT OF THE INTERIOR

Fish and Wildlife Service

50 CFR Part 100

[Docket No. FWS-R7-SM-2009-0001; 70101-1261-0000L6]

RIN 1018-AW30

Subsistence Management Regulations for Public Lands in Alaska—2010-11 and 2011-12 Subsistence Taking of Wildlife Regulations; Subsistence Taking of Fish on the Yukon River Regulations; Correction

AGENCIES: Forest Service, Agriculture; Fish and Wildlife Service, Interior.

ACTION: Final rule; correction.

SUMMARY: On June 30, 2010, we published a final rule that, among other things, established regulations related to the taking of wildlife for subsistence uses in Alaska during the period 2010-12. We inadvertently made effective date errors, which we correct with this document.

DATES: This correction is effective August 27, 2010.

FOR FURTHER INFORMATION CONTACT: Sara Prigan, Federal Register Liaison, U.S. Fish and Wildlife Service, 703-358-2508.

SUPPLEMENTARY INFORMATION: On June 30, 2010, the Departments of Agriculture and the Interior published a final rule establishing regulations for seasons, harvest limits, methods, and means related to taking of wildlife for subsistence uses in Alaska during the 2010-11 and 2011-12 regulatory years (75 FR 37918). This rule also revised customary and traditional use determinations and the regulations defining size limitations for gillnet mesh used for harvesting salmon in the Yukon River drainage. We inadvertently made errors in the DATES section, which we correct with this document.

Because of a typographical error, the second sentence of the DATES caption of the final rule became nonsensical: It stated that a paragraph would be effective April 1, 2011, through March 31, 2011. The sentence should have read as follows: Section __.27(i)(3)(xiii)(A) and (B) is effective March 1, 2011, through March 31, 2011.

Administrative Procedure Act

We find good cause to waive notice and comment on this correction, under 5 U.S.C. 533(b)(3)(B), and also the 30-day delay in effective date, under 5 U.S.C. 553(d). Notice and comment are unnecessary because this correction does not alter the substance of the rule. Instead it corrects a nonsensical error. Therefore, we publish this correction as a final rule and make it effective upon publication.

Correction

In FR Doc. 10-15195, appearing on page 37918 in the Federal Register of Wednesday, June 30, 2010, the following correction is made:

On page 37918, in the first column, the DATES section of the final rule is corrected to read as follows:

DATES: Sections __.24(a)(1), __.25, and __.26 are effective July 1, 2010. Section __.27(i)(3)(xiii)(A) and (B) is effective March 1, 2011, through March 31, 2011.

Authority: 16 U.S.C. 3, 472, 551, 668dd, 3101-3126; 18 U.S.C. 3551-3586; 43 U.S.C. 1733.

Dated: August 20, 2010.
Sara Prigan,
Federal Register Liaison, U.S. Fish and Wildlife Service.
Dated: August 20, 2010.
Steve Kessler,
Subsistence Program Leader, USDA—Forest Service.

[FR Doc. 2010-21405 Filed 8-26-10; 8:45 am]

BILLING CODE 3410-11-P; 4310-55-P